DEPARTMENT OF TRANSPORTATION

Federal Railroad Administration

[Docket No. FRA-2017-0002-N-5]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before December 26, 2018.

ADDRESSES: Submit written comments on the information activities described in this notice by mail to either Ms. Rachel Grice, Engineering Psychologist, Office of Railroad Policy and Development, Human Factors Division, RPD-34, FRA, 1200 New Jersey Avenue SE, Room W36-429, Washington, DC 20590; or Ms. Kimberly Toone, Information Collection Clearance Officer, Office of Information Technology, RAD-20, FRA, 1200 New Jersey Avenue SE, Room W34-212, Washington, DC 20590. Commenters requesting FRA to acknowledge receipt of their respective comments must include a self-addressed stamped postcard stating, “Comments on OMB Control Number 2130-XXXX,” (the relevant OMB control number for the ICR listed below) and should also include the title of the ICR. Alternatively, comments may be faxed to (202) 493-6172 or (202) 493-6630, or emailed to Rachel.Grice@dot.gov or Kim.Toone@dot.gov. Please refer to the assigned OMB control number in any correspondence submitted. FRA will summarize comments received in response to this notice in a subsequent notice and include them in its information collection submission to OMB for approval.

FOR FURTHER INFORMATION CONTACT: Rachel Grice, Engineering Psychologist, Office of Research, Development, and Technology, Human Factors Division, RPD-34, Federal Railroad Administration, 1200 New Jersey Avenue SE, Room W36-429, Washington, DC 20590 (telephone: (202) 493-8005) or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment will promote its efforts to reduce the administrative and paperwork burdens associated with the collection of information that Federal regulations require. In summary, FRA reasons that comments received will advance three objectives: (1) Reduce reporting burdens; (2) ensure organization of information collection requirements in a “user-friendly” format to improve the use of such information; and (3) allow an accurate assessment of the resources expended to retrieve and produce information requested. See 44 U.S.C. 3501.

The summaries below describe the ICR that FRA will submit for OMB clearance as the PRA requires:

Title: The Impact of Commute Times on the Fatigue and Safety of Locomotive Engineers.

OMB Control Number: 2130-NEW.

Abstract: Time-on-task and time awake are two well-known factors that contribute to fatigue. Time-on-task refers to the length of time a person has been performing a task, whereas time awake refers to the length of time since a person last slept. Both of these factors can have a detrimental effect on performance, with the risk of adverse safety events (e.g., crashes) increasing as the length of time that a person performs a task or remains awake increases. These factors also influence each other; that is, the negative effects of increasing time-on-task may become evident sooner if the person has also been awake for a long time. Drivers with longer commutes experience greater time awake and time-on-task than drivers with shorter commutes. A growing body of evidence from a number of industries (e.g., medical, mining, long-haul trucking) suggests that commuting time has a detrimental impact on driving performance, particularly when combined with night-time shift work. However, the extent to which these factors impact the fatigue and safety of locomotive engineers remains unknown.

Type of Request: New information collection.

Affected Public: Railroad Workers.

Forms: FRA F 245.

Respondent Universe: 35,000 locomotive engineers.

Frequency of Submission: Single submission per person.

Reporting Burden: The estimated total annual burden is 1,750 hours across the 5,250 locomotive engineers (estimating a 15% response rate). Each locomotive engineer completes a single online questionnaire and the questionnaire is estimated to take 20 minutes.

Total Estimated Annual Responses: 5,250 responses.

Total Estimated Annual Burden: 1,750 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-23461 Filed 10-25-18; 8:45 am]

BILLING CODE 4910-06-P